DEPARTMENT OF ENERGY

Federal Energy Regulatory Commission

Combined Notice Of Filings No 2

November 10, 2010.

Take notice that the Commission has received the following Natural Gas Pipeline Rate and Refund Report filings:

Docket Numbers: RP10-1082-001.

Applicants: Mojave Pipeline Company, LLC.

Description: Mojave Pipeline Company, LLC submits tariff filing per 154.203: Mojave Rate Case Tariff Sheet to be effective 12/1/2010.

Filed Date: 11/08/2010.

Accession Number: 20101108-5067.

Comment Date: 5 p.m. Eastern Time on Monday, November 22, 2010.

Docket Numbers: RP10-1283-001.

Applicants: WestGas InterState, Inc.

Description: WestGas InterState, Inc. submits tariff filing per 154.203: 11.08.2010 WGI Baseline Correction to be effective 9/8/2010.

Filed Date: 11/08/2010.

Accession Number: 20101108-5150.

Comment Date: 5 p.m. Eastern Time on Wednesday, November 17, 2010.

Docket Numbers: RP10-1107-001.

Applicants: Cimarron River Pipeline, LLC.

Description: Cimarron River Pipeline, LLC submits tariff filing per 154.203: Baseline Compliance to be effective 9/1/2010.

Filed Date: 11/09/2010.

Accession Number: 20101109-5108.

Comment Date: 5 p.m. Eastern Time on Monday, November 22, 2010.

Docket Numbers: RP10-1181-001.

Applicants: Horizon Pipeline Company, L.L.C.

Description: Horizon Pipeline Company, L.L.C. submits tariff filing per 154.203: Compliance Filing Pursuant to FERC Order in Docket No. RP10-1181, to be effective 11/1/2010.

Filed Date: 11/09/2010.

Accession Number: 20101109-5059.

Comment Date: 5 p.m. Eastern Time on Monday, November 22, 2010.

Docket Numbers: RP10-1206-001.

Applicants: Kinder Morgan Illinois Pipeline LLC.

Description: Kinder Morgan Illinois Pipeline LLC submits tariff filing per 154.203: Compliance Filing Pursuant to FERC Order in Docket No. RP10-1206-001, to be effective 11/1/2010.

Filed Date: 11/09/2010.

Accession Number: 20101109-5115.

Comment Date: 5 p.m. Eastern Time on Monday, November 22, 2010.

Docket Numbers: RP10-1209-001

Applicants: Trailblazer Pipeline Company LLC.

Description: Trailblazer Pipeline Company LLC submits tariff filing per 154.203: Compliance Filing Pursuant to FERC Order in Docket No. RP10-1209 to be effective 11/1/2010.

Filed Date: 11/09/2010.

Accession Number: 20101109-5089.

Comment Date: 5 p.m. Eastern Time on Monday, November 22, 2010.

Docket Numbers: RP10-1216-001.

Applicants: Hardy Storage Company, LLC.

Description: Hardy Storage Company, LLC submits tariff filing per 154.203: NAESB V 1.9 Compliance 11.9.10 to be effective 9/17/2010.

Filed Date: 11/09/2010.

Accession Number: 20101109-5144.

Comment Date: 5 p.m. Eastern Time on Monday, November 22, 2010.

Docket Numbers: RP10-1248-001.

Applicants: Central Kentucky Transmission Company

Description: Central Kentucky Transmission Company submits tariff filing per 154.203: NAESB V 1.9 Compliance 11.9.10 to be effective 9/17/2010.

Filed Date: 11/09/2010.

Accession Number: 20101109-5117.

Comment Date: 5 p.m. Eastern Time on Monday, November 22, 2010.

Docket Numbers: RP10-1137-002.

Applicants: Cimarron River Pipeline, LLC.

Description: Cimarron River Pipeline, LLC submits tariff filing per 154.203: ACA Correction No. 2 to be effective 10/1/2010.

Filed Date: 11/10/2010.

Accession Number: 20101110-5054.

Comment Date: 5 p.m. Eastern Time on Monday, November 22, 2010.

Docket Numbers: RP10-1150-001.

Applicants: Kinder Morgan Interstate Gas Transmission LLC.

Description: Kinder Morgan Interstate Gas Transmission LLC submits Compliance Filing, to be effective 11/1/2010.

Filed Date: 11/10/2010.

Accession Number: 20101110-5041.

Comment Date: 5 p.m. Eastern Time on Monday, November 22, 2010.

Docket Numbers: RP10-1151-001.

Applicants: TransColorado Gas Transmission Company LLC

Description: TransColorado Gas Transmission Company LLC submits tariff filing per 154.203: NAESB 1.9 Compliance to be effective 11/1/2010.

Filed Date: 11/10/2010.

Accession Number: 20101110-5044.

Comment Date: 5 p.m. Eastern Time on Monday, November 22, 2010.

Docket Numbers: RP10-1153-001.

Applicants: Rockies Express Pipeline LLC.

Description: Rockies Express Pipeline LLC submits tariff filing per 154.203: NAESB 1.9 Compliance to be effective 11/1/2010.

Filed Date: 11/10/2010.

Accession Number: 20101110-5042.

Comment Date: 5 p.m. Eastern Time on Monday, November 22, 2010.

Docket Numbers: RP10-1180-001.

Applicants: Transcontinental Gas Pipe Line Company,

Description: Transcontinental Gas Pipe Line Company, LLC submits Correction to NAESB 1.9 Compliance Filing, to be effective 11/1/2010.

Filed Date: 11/10/2010.

Accession Number: 20101110-5043.

Comment Date: 5 p.m. Eastern Time on Monday, November 22, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-29318 Filed 11-19-10; 8:45 am]

BILLING CODE 6717-01-P